PENSION BENEFIT GUARANTY CORPORATION

29 CFR Part 4044

RIN 1212-AA55

Valuation of Benefits; Mortality Assumptions

Correction

In rule document 05-23554 beginning on page 72205 in the issue of Friday, December 2, 2005, make the following correction:

Appendix A to Part 4044—[Corrected]

On page 72208, in the second column, in Appendix A to Part 4044, in the first paragraph, in the second line, “set forth that for” should read “set forth for”

[FR Doc. C5-23554 Filed 12-8-05; 8:45 am]

BILLING CODE 1505-01-D